DEPARTMENT OF COMMERCE

Foreign-Trade Zones Board

[B-105-2013]

Notification of Proposed Production Activity, Crosman Corporation (Airguns), Bloomfield and Farmington, New York

Crosman Corporation (Crosman) submitted a notification of proposed production activity to the Foreign-Trade Zones (FTZ) FTZ Board for its facilities in Bloomfield and Farmington, New York within a proposed foreign-trade zone in Ontario County, New York (FTZ Docket B-80-2013, 78 FR 53127-53128, 8/28/2013). The notification conforming to the requirements of the regulations of the FTZ Board (15 CFR 400.22) was received on December 4, 2013.

The Crosman facilities would be located within a subzone of the proposed Ontario County zone. The facilities are used for the inspection, assembly, kitting, testing and packaging of airguns. Pursuant to 15 CFR 400.14(b), FTZ activity would be limited to the specific foreign-status materials/components and specific finished products described in the submitted notification (as described below) and subsequently authorized by the FTZ Board.

Production under FTZ procedures could exempt Crosman from customs duty payments on the foreign status materials/components used in export production. On its domestic sales, Crosman would be able to choose the duty rates during customs entry procedures that apply to airguns, break barrel airguns, variable pump airguns, CO2 airguns, and airsoft guns (duty rate ranges from duty-free to 3.9%) for the foreign status materials/components noted below. Customs duties also could possibly be deferred or reduced on foreign status production equipment.

The materials/components sourced from abroad include: Liquid crystal and laser optical sights and mounts; gun cases and holsters with outer surface of plastic or textile material; telescopic sights for rifles; portable electrical lamps and flashlights; pistols, rifles and other guns which eject missiles by release of compressed air or gas, or by release of a spring mechanism or rubber held under tension; stocks and other parts for airgun rifles and pistols; imitation jewelry, such as dog tags; protective eyewear; nickel-cadmium storage batteries; fiber optic sights; spectacle lenses; and, electrical transformers with a power output not exceeding 50W (duty rate ranges from 1.5 to 17.6%). The request indicates that gun cases and holsters classified under HTSUS Subheading 4202.92 will be admitted to the zone in privileged foreign status (19 CFR 146.41), thereby precluding inverted tariff benefits on such items.

Public comment is invited from interested parties. Submissions shall be addressed to the Board's Executive Secretary at the address below. The closing period for their receipt is January 21, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: December 6, 2013.
Andrew McGilvray,
Executive Secretary.

[FR Doc. 2013-29595 Filed 12-10-13; 8:45 am]

BILLING CODE 3510-DS-P